DEPARTMENT OF COMMERCE

National Oceanic and Atmospheric Administration

RIN 0648-XR064

Marine Mammals; File No. 23467

AGENCY: National Marine Fisheries Service (NMFS), National Oceanic and Atmospheric Administration (NOAA), Commerce.

ACTION: Notice; receipt of application.

SUMMARY: Notice is hereby given that Sarah Conner, Wild Space Productions, St. Stephens House, Colston Avenue, Bristol, BS1 4ST, United Kingdom, has applied in due form for a permit to conduct commercial or educational photography on marine mammals.

DATES: Written, telefaxed, or email comments must be received on or before December 12, 2019.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Erin Markin, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant proposes to film pinnipeds in Monterey Bay National Marine Sanctuary to obtain footage for a wildlife documentary celebrating the world's greatest national parks and marine sanctuaries. Up to 1,520 Northern elephant seals (Mirounga angustirostris), 200 California sea lions (Zalophus californianus), 30 Steller sea lions (Eumetopias jubatus; Eastern Distinct Population Segment), and 30 harbor seals (Phoca vitulina) may be filmed from land or unmanned aircraft systems. The permit would expire on February 28, 2021.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 5, 2019.
Julia Marie Harrison,
Chief, Permits and Conservation Division, Office of Protected Resources, National Marine Fisheries Service.

[FR Doc. 2019-24458 Filed 11-8-19; 8:45 am]

BILLING CODE 3510-22-P